ENVIRONMENTAL PROTECTION AGENCY

[EPA-HQ-OPPT-2017-0407; FRL-9967-08]

Certain New Chemicals; Receipt and Status Information for July 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from July 3, 2017 to July 31, 2017.

DATES: Comments identified by the specific case number provided in this document, must be received on or before October 27, 2017.

ADDRESSES: Submit your comments, identified by docket identification (ID) number EPA-HQ-OPPT-2017-0407, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR parts 2.

2. Tips for preparing your comments. When preparing and submitting your comments, see the commenting tips at http://www.epa.gov/dockets/comments.html.

II. What action is the Agency taking?

This document provides receipt and status reports, which cover the period from July 3, 2017 to July 31, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 49 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From July 3, 2017 to July 31, 2017
Case No. | Received date | Projected notice end date | Manufacturer importer | Use | Chemical
P-17-0110 | 7/6/2017 | 10/4/2017 | CBI | (G) Masking photopolymer | (G) Phenol formaldehyde glycidyl ether acrylate cycloalkene ester.
P-17-0121 | 7/3/2017 | 10/1/2017 | CBI | (S) Polyurethane used in an adhesive | (G) Methylene diphenyl diisocyanate terminated polyurethane resin.
P-17-0149 | 7/20/2017 | 10/18/2017 | CBI | (G) Electronic use | (G) Fluorocyanophenyl alkylbenzoate.
P-17-0150 | 7/20/2017 | 10/18/2017 | CBI | (G) Electronic use | (G) Fluorocyanophenyl alkylbenzoate.
P-17-0151 | 7/20/2017 | 10/18/2017 | CBI | (G) Electronic use | (G) Fluorocyanophenyl alkylbenzoate.
P-17-0154 | 7/27/2017 | 10/25/2017 | CBI | (G) Coating | (G) Carboxylic acid amine (1:1).
P-17-0155 | 7/27/2017 | 10/25/2017 | CBI | (G) Coating | (G) Mix fatty acids compd with amine (1:1).
P-17-0156 | 7/27/2017 | 10/25/2017 | CBI | (G) Coating | (G) Mix fatty acids, compd with amine (1:1).
P-17-0165 | 7/20/2017 | 10/18/2017 | CBI | (G) Electronic use | (G) Fluorocyanophenyl alkylbenzoate.
P-17-0177 | 7/21/2017 | 10/19/2017 | Shin-Etsu Microsi | (G) Microlithography for electronic device manufacturing | (G) Monoheteropentacycloalkane-4-carboxylic acid, substituted-cycloalkyl ester.
P-17-0178 | 7/21/2017 | 10/19/2017 | Shin-Etsu Microsi | (G) Microlithography for electronic device manufacturing | (G) Sulfonium, triphenyl-, salt with substituted-alkyl 4-substituted-benzoate.
P-17-0187 | 7/24/2017 | 10/22/2017 | CBI | (S) Latex incorporating catalyst monomer for generation of singlet oxygen, production %: 100.0 optional pollution information: This product provides for self-sanitizing surfaces without heavy metals or mobile toxic chemicals | (G) Polymer with benzoic acid tetra halogen hydroxy tetrahalogen oxo h xanthenyl alkenylaryl alkyl ester alkalai metal salt, butyl-2-propenoate, ethenyl neodecanoate, methyl-2-methyl-2- propenoate and 2-methyl-2-propenoic acid.
P-17-0230 | 7/6/2017 | 10/4/2017 | CBI | (G) Additive, open, non-dispersive use | (G) Oxirane, 2-alkyl-, polymer with oxirane, mono[N-[3-(carboxyamino)-4(or 6)-alkylphenyl]carbamate], alkyl ether, ester with 2,2′,2″-nitrilotris-[alkanol].
P-17-0244 | 7/12/2017 | 10/10/2017 | CBI | (S) A down converting phosphor particle for use in an optical filter | (G) Metal oxide reaction products with cadmium metal selenide sulfide, and amine.
P-17-0272 | 7/28/2017 | 10/26/2017 | CBI | (G) Component in asphalt emulsions | (G) Fatty acid amide alkyl amine salts.
P-17-0273 | 7/28/2017 | 10/26/2017 | CBI | (G) Component in asphalt emulsions | (G) Fatty acid amide alkyl amine salts.
P-17-0274 | 7/28/2017 | 10/26/2017 | CBI | (G) Component in asphalt emulsions | (G) Fatty acid amide alkyl amine salts.
P-17-0275 | 7/28/2017 | 10/26/2017 | CBI | (G) Component in asphalt emulsions | (G) Fatty acid amide alkyl amine salts.
P-17-0276 | 7/28/2017 | 10/26/2017 | CBI | (G) Component in asphalt emulsions | (G) Fatty acid amide alkyl amine salts.
P-17-0277 | 7/28/2017 | 10/26/2017 | CBI | (G) Component in asphalt emulsions | (G) Fatty acid amide alkyl amine salts.
P-17-0283 | 7/13/2017 | 10/11/2017 | CBI | (G) Lubricating oil additive for automotive engine oils | (G) Arenesulfonic acid, alkyl derivatives, metal salts.
P-17-0286 | 7/23/2017 | 10/21/2017 | Shin-Etsu Microsi | (G) This material is added Ca.0.05-10% in resist composition | (G) Bicyclo[2.2.1] alkane-1-alkanesulfonic acid, 7,7-dimethyl-2-oxo-, [(3,5-dimethoxy-2- naphthalenyl) carbonyl] methylazanyl ester, (1s,4r)-.
P-17-0287 | 7/23/2017 | 10/21/2017 | Shin-Etsu Microsi | (G) This material is added Ca.0.05-10% in resist composition | (G) Phenylsulfonic acid, 4-methyl-, [(dimethoxy-2-naphthalenyl) carbonyl]methylazanyl ester.
P-17-0320 | 7/28/2017 | 10/26/2017 | H.B. Fuller Company | (G) Industrial adhesive | (G) Dodecanedioic acid and 1,6-hexanediol polymer with 3-hydroxy-2,2-dimethylpropyl 2,2-dimethylhydracrylate, neopentylglycol, 1,2 ethanediol, adipic acid, isophthalic acid, terephthalic acid, 2-oxooxopane, bayflex 2002h and 1,1′-methylenebis[isocyanatobenzene].
P-17-0331 | 7/29/2017 | 10/27/2017 | Shin-Etsu Microsi | (S) Solbin M5 is used as a binder in formulations of coatings, inks, paints and adhesives | (G) Vinyl chloride-vinyl acetate based copolymer.
P-17-0333 | 7/13/2017 | 10/11/2017 | Miwon North America, Inc | (S) Reactive diluent for optical film coating | (G) 2-propenoic acid, mixed esters with heterocyclic dimethanol and heterocyclic methanol.
P-17-0334 | 7/10/2017 | 10/8/2017 | CBI | (G) Chemical precursor | (G) Halogenated alkyl monocyclicamide.
P-17-0346 | 7/10/2017 | 10/8/2017 | Suterra LLC | (G) Destructive use | (G) Triarylalkyl phosphonium halide salt.
P-17-0347 | 7/6/2017 | 10/4/2017 | Sasol Chemicals (USA) LLC | (G) Oilfield surfactant | (S) Oxirane, 2-methyl-, polymer with oxirane, mono(2-butyloctyl) ether.
P-17-0348 | 7/6/2017 | 10/4/2017 | Sasol Chemicals (USA) LLC | (G) Oilfield surfactant | (S) Oxirane, 2-methyl-, polymer with oxirane, mono(2-hexyldecyl) ether.
P-17-0349 | 7/6/2017 | 10/4/2017 | Sasol Chemicals (USA) LLC | (G) Oilfield surfactant | (S) Oxirane, 2-methyl-, polymer with oxirane, mono(2-octyldodecyl) ether.
P-17-0350 | 7/6/2017 | 10/4/2017 | Sasol Chemicals (USA) LLC | (G) Oilfield surfactant | (S) Oxirane, 2-methyl-, polymer with oxirane, mono(2-decyltetradecyl) ether.
P-17-0351 | 7/6/2017 | 10/4/2017 | Sasol Chemicals (USA) LLC | (G) Oilfield surfactant | (S) Oxirane, 2-methyl-, polymer with oxirane, mono(2-dodecylhexadecyl) ether.
P-17-0352 | 7/6/2017 | 10/4/2017 | Sasol Chemicals (USA) LLC | (G) Oilfield surfactant | (S) Oxirane, 2-methyl-, polymer with oxirane, mono(2-tetradecyloctadecyl) ether.
P-17-0353 | 7/11/2017 | 10/9/2017 | CBI | (G) Additive in resin manufacture | (G) Heteromonocycle, 2-[(bicarbomonocycle-2-substituted)alkyl]-.
P-17-0353 | 7/14/2017 | 10/12/2017 | CBI | (G) Additive in resin manufacture | (G) Heteromonocycle, 2-[(bicarbomonocycle-2-substituted)alkyl]-.
P-17-0354 | 7/21/2017 | 10/19/2017 | CBI | (G) Function as a solvent in electrolyte solution in batteries which will improve the performance of the batteries in consumer electronics and automotive applications | (G) (substituted-dialkyl(c=1~7)silyl)alkanenitrile.
P-17-0356 | 7/14/2017 | 10/12/2017 | Reichhold LLC 2 | (S) Pultrusion | (G) Mono methacrylate terminated polyester, reaction products with diisocyanate and hydroxypropyl methacrylate.
P-17-0356 | 7/14/2017 | 10/12/2017 | Reichhold LLC 2 | (S) Filament winding | (G) Mono methacrylate terminated polyester, reaction products with diisocyanate and hydroxypropyl methacrylate.
P-17-0357 | 7/14/2017 | 10/12/2017 | Reichhold LLC 2 | (S) Intermediate base resin | (G) Monomethacrylate terminated polyester.
P-17-0358 | 7/25/2017 | 10/23/2017 | CBI | (G) Component for tire | (G) Buta-1,3-diene reaction product with styrene and alkyl silyl substances.
P-17-0359 | 7/21/2017 | 10/19/2017 | CBI | (G) Lubricant additive | (G) Zinc alkyl salicylate.
P-17-0361 | 7/21/2017 | 10/19/2017 | Allnex USA Inc | (S) Dual Cure/Ultra violet (Uv) Cure Adhesion/Barrier Coating | (G) Substituted heteromonocycle, polymer with diisocyanatoalkane and alkanediol, substituted heteromonocycle homopolymer ester with substituted alkyl acrylate-blocked.
P-17-0362 | 7/26/2017 | 10/24/2017 | CBI | (G) Industrial Flame Retardant | (G) Aliphatic phosphoric amide ester.
P-17-0364 | 7/27/2017 | 10/25/2017 | CBI | (S) Metal Coating | (G) Dicyloalkyl-alkane-di-isocyanate homopolymer, alkyl alcohol and polyalkyl glycol mono-alkyl-ether-blocked.
P-17-0364 | 7/27/2017 | 10/25/2017 | CBI | (S) Wood Coating | (G) Dicyloalkyl-alkane-di-isocyanate homopolymer, alkyl alcohol and polyalkyl glycol mono-alkyl-ether-blocked.
P-17-0364 | 7/27/2017 | 10/25/2017 | CBI | (S) Parquet Coating | (G) Dicyloalkyl-alkane-di-isocyanate homopolymer, alkyl aLCohol and polyalkyl glycol mono-alkyl-ether-blocked.
P-17-0364 | 7/27/2017 | 10/25/2017 | CBI | (S) Plastic Coating | (G) Dicyloalkyl-alkane-di-isocyanate homopolymer, alkyl alcohol and polyalkyl glycol mono-alkyl-ether-blocked.
P-17-0364 | 7/27/2017 | 10/25/2017 | CBI | (S) Furniture Coating | (G) Dicyloalkyl-alkane-di-isocyanate homopolymer, alkyl alcohol and polyalkyl glycol mono-alkyl-ether-blocked.

For the 30 NOCs received by EPA during this period, Table 2 provides the following information (to the extent that such information is not claimed as CBI): The EPA case number assigned to the NOC; the date the NOC was received by EPA; the projected date of commencement provided by the submitter in the NOC; and the chemical identity.

Table 2—NOCs Received From July 3, 2017 To July 31, 2017
Case No. | Received date | Commencement date | Chemical
P-11-0088 | 7/6/2017 | 6/7/2017 | (G) Polyfluoroalkyl phosphoric acid salt, aqueous solution.
P-11-0089 | 7/6/2017 | 6/7/2017 | (G) Polyfluoroalkyl phosphoric acid salt, aqueous solution.
P-12-0070 | 7/7/2017 | 6/30/2017 | (G) Fatty acids with butanamine.
P-12-0278 | 7/5/2017 | 6/5/2017 | (S) Slack wax (petroleum), chloro.
P-12-0280 | 7/5/2017 | 6/5/2017 | (S) Hexacosane, chloro derivs.
P-12-0280 | 7/5/2017 | 6/5/2017 | (S) Octacosane, chloro derivs.
P-12-0281 | 7/5/2017 | 6/5/2017 | (S) Alkanes, C20-24, chloro.
P-12-0284 | 7/5/2017 | 6/5/2017 | (S) Octadecane, chloro derivs.
P-12-0433 | 7/7/2017 | 6/2/2017 | (S) Alkanes, C18-20, chloro long chain chlorinated paraffin (lccp).
P-12-0453 | 7/7/2017 | 6/2/2017 | (S) Alkanes, C14-17, chloro(medium chain chlorinated paraffin) mccp.
P-12-0505 | 7/7/2017 | 6/2/2017 | (S) Alkanes, C22-30 chloro, (very long chain chlorinated paraffin) vlccp.
P-14-0043 | 7/25/2017 | 5/4/2017 | (S) Poly[oxy(methyl-1,2-ethanediyl)], .alpha.-[methyl-2-[(phenylmethylene)amino]ethyl]-.omega.-[methyl-2-[(phenylmethylene)amino]ethoxy]-.
P-14-0148 | 7/20/2017 | 7/18/2017 | (G) Hydroxy-functional siloxane.
P-14-0630 | 7/10/2017 | 6/23/2017 | (S) Bismuth bromide iodide oxide.
P-15-0482 | 7/21/2017 | 7/14/2017 | (G) Poly[oxy(methyl-alkyl)], alpha-phenyl-omega-hydroxy-, polyisobutylene derivs.
P-15-0706 | 7/27/2017 | 7/19/2017 | (G) Trade name NCP polysiloxane resingeneric name mixture of aliphatic N-alkyl ureas containing substituted cyclohexyl and terminal alkoxysilane groups.
P-15-0707 | 7/28/2017 | 7/19/2017 | (G) Trade name NCP polysiloxane resingeneric name mixture of aliphatic N-alkyl ureas containing aspartic ester and terminal alkoxysilane groups.
P-16-0046 | 7/5/2017 | 6/27/2017 | (G) Aromatic derivative, polymer with alkyl diol, alkene and oxiranylalkyl-alkyl-alkyl ester.
P-16-0178 | 7/27/2017 | 7/3/2017 | (S) Benzene, 1,3-diisocyanatomethyl-, reaction products with alcohols, C11-14-iso-, C13-rich and 1,3-benzenedimethanamine.
P-16-0231 | 7/7/2017 | 6/22/2017 | (G) Polysiloxane with functional groups.
P-16-0315 | 7/17/2017 | 7/13/2017 | (G) Alkyldiene, polymer, hydroxy terminated alkoxysilylalkylcarbamate.
P-16-0379 | 7/20/2017 | 7/14/2017 | (S) Silane, 1,1′-(1,2-ethanediyl)bis[1,1-dichloro-1-methyl-], hydrolysis products with chloroethenyldimethylsilane.
P-16-0438 | 7/14/2017 | 7/7/2017 | (S) 3-butenenitrile, 2-(acetyloxy).
P-16-0515 | 7/5/2017 | 6/29/2017 | (G) Diamine substituted arylimidazole.
P-16-0596 | 7/21/2017 | 7/1/2017 | (G) Alkenoic acid, reaction products with polyethylene glycol ether with hydroxyalkyl substituted alkane.
P-17-0154 | 7/27/2017 | 7/17/2017 | (G) Carboxylic acid amine (1:1).
P-17-0170 | 7/18/2017 | 7/16/2017 | (G) Alkanediol, 2,2-bis (substituted alkyl)-, polymer with substituted alkane, heteromonocycles, alkenoate.
P-17-0226 | 7/19/2017 | 7/11/2017 | (S) Manganese(2+),bisoctahydro-1,4,7-trimethyl-1h-(1,4,7-triazonine-.kappa.n1,.kappa.n4,.kappa.n7)tri-.mu.-oxidi-hexafluorophosphate(1-)(1:2).
P-17-0227 | 7/12/2017 | 6/23/2017 | (G) 2-propenoic acid, alkyl-, alkyl ester, polymer with alkyl 2-propenoate and alpha-(2-alkyl-1-oxo-2-propen-1-yl-omega-methoxypoly(oxy-1,2-alkanediyl), ester with alpha-2-propen-1-yl-omega-hydroxypoly(oxy-1,2-ethanediyl).
P-17-0255 | 7/19/2017 | 6/24/2017 | (G) Carbomonocyclic dicarboxylic acid, polymer with carbomonocyclic dicarboxylic acid, alkanedioic acid, alkenedioic acid, substituted dioxoheteropolycyclic, substituted dioxo-heteropolycyclic, alkanedioic acid, alkoxylated alkylidene dicarbomonocycle and alkoxylated alkylidene dicarbomonocycle, ester.

Authority: 15 U.S.C. 2601 et seq.

Dated: August 31, 2017.
Pamela Myrick,
Director, Information Management Division, Office of Pollution Prevention and Toxics.

[FR Doc. 2017-20727 Filed 9-26-17; 8:45 am]

BILLING CODE 6560-50-P